FEDERAL TRADE COMMISSION

Agency Information Collection Activities; Proposed Collection; Comment Request

AGENCY: Federal Trade Commission (FTC or Commission).

ACTION: Notice.

SUMMARY: The FTC is soliciting public comments on proposed information requests to beverage alcohol manufacturers. These comments will be considered before the FTC submits a request for Office of Management and Budget (OMB) review under the Paperwork Reduction Act (PRA), 44 U.S.C. 3501-3520, of compulsory process orders to alcohol advertisers. The compulsory process orders will seek information from those companies concerning, among other things, compliance with voluntary advertising placement provisions, sales and marketing expenditures, the status of third-party review of complaints regarding compliance with voluntary advertising codes and alcohol industry data collection practices.

DATES: Comments on the proposed information requests must be received on or before April 26, 2011.

ADDRESSES: Interested parties are invited to submit written comments electronically or in paper form, by following the instructions in the Request for Comments part of the SUPPLEMENTARY INFORMATION section below. Comments in electronic form should be submitted by using the following Web link: https://ftcpublic.commentworks.com/ftc/alcoholstudy2011pra (and following the instructions on the Web-based form). Comments in paper form should be mailed or delivered to the following address: Federal Trade Commission, Office of the Secretary, Room HB113 (Annex J), 600 Pennsylvania Avenue, NW., Washington, DC 20580, in the manner detailed in the SUPPLEMENTARY INFORMATION section below.

FOR FURTHER INFORMATION CONTACT: Janet M. Evans, Attorney, 202-326-2125, or Carolyn L. Hann, Attorney, 202-326-2745, Division of Advertising Practices, Bureau of Consumer Protection, Federal Trade Commission.

SUPPLEMENTARY INFORMATION:

Background

The FTC previously published reports on voluntary advertising self-regulation by the alcohol industry in September 1999, September 2003, and June 2008. The data contained in the reports was based on information submitted to the Commission, pursuant to compulsory process, by U.S. beverage alcohol advertisers. The FTC has authority to compel production of this information from advertisers under Section 6 of the Federal Trade Commission Act (FTC Act), 15 U.S.C. 46. The Commission believes that it is in the public interest to collect updated data from alcohol advertisers on sales and marketing expenditures, compliance with the industry's imposed self-regulatory codes concerning advertising placement, the status of third-party review of complaints regarding compliance with the industry's self-regulatory advertising standards, and alcohol industry data collection practices, and to publish a report on the data obtained.

Applicability of Paperwork Reduction Act

The Commission plans to address its information requests to the ultimate U.S. parent of alcohol advertisers in order to ensure that no relevant data from affiliated or subsidiary companies go unreported. Because the number of separately incorporated companies affected by the Commission's requests will presumably exceed ten entities, the Commission intends to seek OMB clearance under the Paperwork Reduction Act (PRA) before requesting any information from beverage alcohol advertisers. Under the PRA and implementing OMB regulations, federal agencies must obtain approval from OMB for each “collection of information” they conduct or sponsor if posed to ten or more entities within any twelve-month period. 44 U.S.C. 3502(3); 5 CFR 1320.3(c). “Collection of information” means agency requests or requirements that members of the public submit reports, keep records, or provide information to a third party. 44 U.S.C. 3501(3); 5 CFR 1320.3(c).

Request for Comments

As required by Section 3506(c)(2) of the PRA, the FTC is providing this opportunity for public comment before requesting that OMB approve the study. Specifically, the FTC invites comments on: (1) Whether the proposed collection of information is necessary for the proper performance of the functions of the FTC, including whether the information will have practical utility; (2) the accuracy of the FTC's estimate of the burden of the proposed collection of information; (3) ways to enhance the quality, utility, and clarity of the information to be collected; and (4) ways to minimize the burden of collecting information on those who are to respond, including through the use of appropriate automated, electronic, mechanical, or other technological collection techniques or other forms of information technology, e.g., permitting electronic submission of responses. The FTC encourages recipients of prior compulsory process orders to offer suggestions on how the burden of the proposed collection may be reduced. All comments should be filed as prescribed below, and must be received on or before April 26, 2011.

Please also note that because your comment will be made public, you are solely responsible for ensuring that it does not include any sensitive personal information, such as any individual's Social Security number, date of birth, driver's license number or other state identification number or foreign country equivalent, passport number, financial account number, or credit or debit card number. It is also your own responsibility to ensure that your comment does not include any sensitive health information, such as medical records or other individually identifiable health information. Your comment also should not include any “[t]rade secret or any commercial or financial information * * * which is privileged or confidential.” See Section 6(f) of the FTC Act, 15 U.S.C. 46(f), and FTC Rule 4.10(a)(2), 16 CFR 4.10(a)(2). No comment, whether it contains such material or not, will be given confidential treatment unless the comment has been filed with the FTC Secretary; the comment is accompanied by a written confidentiality request that complies fully with FTC Rule 4.9(c), 16 CFR 4.9(c); ¹ and the General Counsel, in his or her sole discretion, has determined to grant the request in accordance with applicable law and the public interest.

¹ In particular, the written request for confidential treatment that accompanies the comment must include the factual and legal basis for the request, and must identify the specific portions of the comment to be withheld from the public record. See FTC Rule 4.9(c), 16 CFR 4.9(c).

Because paper mail addressed to the FTC is subject to delay due to heightened security screening, please consider submitting your comment in electronic form. Comments filed in electronic form should be submitted by using the following Web link: https://ftcpublic.commentworks.com/ftc/alcoholstudy2011pra (and following the instructions on the Web-based form). To ensure that the Commission considers an electronic comment, you must file it on the Web-based form at the Web link: https://ftcpublic.commentworks.com/ftc/alcoholstudy2011pra. If this Notice appears at http://www.regulations.gov/search/index.jsp, you may also file an electronic comment through that Web site. The Commission will consider all comments that regulations.gov forwards to it. You may also visit the FTC Web site at http://www.ftc.gov to read the Notice and the news release describing it.

A comment filed in paper form should include the “Alcohol Reports: Paperwork Comment; Project No. P114503” reference both in the text and on the envelope, and should be mailed or delivered to the following address: Federal Trade Commission, Office of the Secretary, Room H-113 (Annex J), 600 Pennsylvania Avenue, NW., Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC Web site, to the extent practicable, at http://www.ftc.gov/os/publiccomments.shtm. As a matter of discretion, the Commission makes every effort to remove home contact information for individuals from the public comments it receives before placing those comments on the FTC Web site. More information, including routine uses permitted by the Privacy Act, may be found in the FTC's privacy policy, at http://www.ftc.gov/ftc/privacy.shtm.

Description of the Collection of Information and Proposed Use

The FTC proposes to send information requests to the ultimate U.S. parent companies of up to fourteen advertisers of beer, wine, or distilled spirits (“industry members”). The requests will seek, among other information, data regarding: (1) Sales of beverage alcohol; (2) expenditures to advertise and promote beverage alcohol in measured and non-measured media; (3) compliance with the 70% legal drinking age audience composition advertising placement standard contained in the industry's self-regulatory codes; (4) third-party or other external compliance review mechanisms; and (5) data collection efforts, including data collection in connection with digital and social media marketing, and efforts to avoid collection of data from youth under the legal drinking age of 21, to the extent industry members possess such data.

It should be noted that subsequent to this notice, any destruction, removal, mutilation, alteration, or falsification of documentary evidence that may be responsive to this information collection within the possession or control of a person, partnership, or corporation subject to the FTC Act may be subject to criminal prosecution. 15 U.S.C. 50; see also 18 U.S.C. 1505.

Estimated Hours Burden: 11,760 hours.

The staff's estimate of the hours burden is based on the time required to respond to each information request. Because beverage alcohol companies vary in size, the number of products they sell, and the extent and variety of their advertising and promotion efforts, the staff has provided a range of the estimated hours burden. As noted above, each company will receive information requests pertaining to five categories of information.

Based upon its knowledge of the industry, the staff estimates, on average, that the time required to gather, organize, format, and produce responses to categories (1), (2), (4), and (5) will range between 20 and 130 hours for most companies, but that the largest companies could require as many as 560 hours for the most time-consuming category, i.e., category (3) (placement information). The total estimated burden per company is based on the following assumptions:

(1) Identify, obtain, and organize sales information, prepare response: | 30-70 hours
(2) Identify, obtain, and organize information on advertising and marketing expenditures, prepare response: | 50-130 hours
(3) Identify, obtain, and organize placement information, prepare response: | 240-560 hours
(4) Identify, obtain, and organize information regarding compliance review, prepare response: | 20-40 hours
(5) Identify, obtain, and organize information regarding data collection, prepare response: | 20-40 hours

The staff anticipates that the cumulative hours burden to respond to the information requests will be between 360 and 840 hours per company. Nonetheless, in order to be conservative, the staff estimates that the burden per company for each of up to fourteen intended recipients will be 840 hours. Accordingly, the staff estimates a total burden for these companies of approximately 11,760 hours (14 companies × 840 average burden hours per company). These estimates include any time spent by separately incorporated subsidiaries and other entities affiliated with the ultimate parent company that has received the information request.

Estimated Cost Burden: $252,000.

It is difficult to calculate with precision the labor costs associated with the information requests, as the costs entail varying compensation levels of management and/or support staff among companies of different sizes. Financial, legal, marketing, and clerical personnel may be involved in the information collection process. The staff has assumed that professional personnel and outside legal counsel will handle most of the tasks involved in gathering and producing responsive information, and has applied an average hourly wage of $300/hour for their labor. Thus, the staff estimates that the total labor costs per company will range between $108,000 ($300 × 360 hours) and $252,000 ($300 × 840 hours).

The staff estimates that the capital or other non-labor costs associated with the information requests will be minimal. Although the information requests may necessitate that industry members maintain the requested information provided to the Commission, they should already have in place the means to compile and maintain business records.

By direction of the Commission.
Donald S. Clark,
Secretary.

[FR Doc. 2011-4196 Filed 2-24-11; 8:45 am]

BILLING CODE 6750-01-P